DEPARTMENT OF HEALTH AND HUMAN SERVICES

Centers for Disease Control and Prevention

[30Day-24-0909]

Agency Forms Undergoing Paperwork Reduction Act Review

In accordance with the Paperwork Reduction Act of 1995, the Centers for Disease Control and Prevention (CDC) has submitted the information collection request titled “Diabetes Prevention Recognition Program (DPRP)” to the Office of Management and Budget (OMB) for review and approval. CDC previously published a “Proposed Data Collection Submitted for Public Comment and Recommendations” notice on 12/15/2023 to obtain comments from the public and affected agencies. CDC received 19 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the attention of: CDC Desk Officer, Office of Management and Budget, 725 17th Street NW, Washington, DC 20503 or by fax to (202) 395-5806. Provide written comments within 30 days of the notice of publication.

Proposed Project

CDC Diabetes Prevention Recognition Program (DPRP) (OMB Control No. 0920-0909, Exp. 04/30/2024)—Revision—National Center for Chronic Disease Prevention and Health Promotion (NCCDPHP), Centers for Disease Control and Prevention (CDC).

Background and Brief Description

CDC's Division of Diabetes Translation (DDT) established and administers the National DPP's Diabetes Prevention Recognition Program (DPRP), which recognizes organizations that deliver a diabetes prevention program according to evidence-based requirements set forth in the Centers for Disease Control and Prevention's Diabetes Prevention Recognition Program Standards and Operating Procedures (DPRP Standards). Additionally, the Centers for Medicare & Medicaid Services (CMS) Medicare Diabetes Prevention Program (MDPP) expansion of CDC's National DPP was announced in early 2016, when the Secretary of Health and Human Services (HHS) determined that the Diabetes Prevention Program met the statutory criteria for inclusion in Medicare's expanded list of health care services for beneficiaries (https://cmmi.my.site.com/mdpp/). This was the first time a preventive service model from the CMS Innovation Center was expanded into Medicare. After extensive testing of this model in 17 sites across the U.S. in 2014-2016, CMS proposed the MDPP in sections 1102 and 1871 of the Social Security Act (42 U.S.C. 1302 and 1395hh sec. 424.59), authorizing CDC-recognized organizations to prepare for enrollment as MDPP suppliers beginning in January 2018 in order to bill CMS for these services. Only organizations in good standing with the CDC DPRP are eligible as MDPP suppliers. CDC continues to work with CMS to support the MDPP.

CDC requests an additional three years of OMB approval to continue collecting the information needed to administer the DPRP and provide information needed by CMS to support the MDPP benefit. Based on experience with the DPRP from 2011-2023, including data analysis and feedback from applicant organizations and internal and external partners, CDC plans to revise the DPRP Standards and the associated information collection.

Key changes are a direct result of DPRP data analyses, recent literature reviews, and discussion with national DPP stakeholders, including those serving socially vulnerable populations. Key changes to the evaluation data collection instrument allow for the collection of participant zip codes (for aggregate reporting only; not to be reported for each individual participant); an OMB-recommended six-point disability variable (not tied to CDC recognition and with a variable option of `Participant chose not to respond'); a health equity-related social determinants of health (SDOH) variable set (to assess whether there was a social needs assessment conducted; key SDOH issues identified; and whether any action was taken; not tied to CDC recognition); a Middle Eastern or North African write-in option within the current race/ethnicity variable; and two new options for the current payersource variable.

Key changes to the application data collection instrument allow for a yes/no drop-down question asking if an organization's zip code is in an area of high social vulnerability based on the Social Vulnerability Index, which would permit an in-person organization to be fast-tracked to Preliminary recognition status to allow the organization to apply to CMS to become an MDPP supplier; revisions to the combination delivery mode to include an option for in-person delivery with a distance learning component; and collection of a projected program start-date.

During the period of this Revision, CDC estimates receipt of approximately 200 DPRP application forms per year from new organizations. The estimated burden per one-time application response is one hour (annualized to 200 hours). In addition, CDC estimates receipt of semi-annual evaluation data submissions from the same 200 additional organizations per year, estimated at two hours per response. The total estimated average annualized evaluation burden for new respondents is 2,400 hours. This includes an estimate of the time needed to extract and compile the required data records and fields from an existing electronic database, review the data, and enter the data via the DPRP Data Portal. CDC also has 1,500 currently recognized organizations that will continue to submit semi-annual evaluation data. These organizations are reflected in Supporting Statement B within this OMB revision.

The estimated burden per response is moderate, since the information requested for CDC recognition is routinely collected by most organizations that deliver the National DPP lifestyle change program for their own internal evaluation and possible insurance reimbursement purposes, including the MDPP benefit. Participation in the DPRP is voluntary, data are de-identified, no personally identifiable information (PII) is collected by CDC, and there are no costs to respondents other than their time. CDC is requesting a three-year approval. The total estimated annualized burden is 7,800 hours.

Estimated Annualized Burden Hours
Type of respondent | Form name | Number of respondents | Number of responses per respondent | Avg. burden per response (in hours)
Public sector organizations that deliver the National DPP lifestyle change program | DPRP Application Form DPRP Evaluation Data | 80 740 | 1 2 | 1 2
Private sector organizations that deliver the National DPP lifestyle change program | DPRP Application Form DPRP Evaluation Data | 120 1,160 | 1 2 | 1 2

Jeffrey M. Zirger,
Lead, Information Collection Review Office, Office of Public Health Ethics and Regulations, Office of Science, Centers for Disease Control and Prevention.

[FR Doc. 2024-08593 Filed 4-22-24; 8:45 am]

BILLING CODE 4163-18-P